DEPARTMENT OF THE INTERIOR

National Park Service

Draft Environmental Impact Statement/General Management Plan: Ebey's Landing National Historical Reserve, Island County, WA; Notice of Availability

SUMMARY: Pursuant to the National Environmental Policy Act of 1969, 42 U.S.C. 4332(C), and the Council on Environmental Quality Regulations (40 CFR part 1500-1508), the National Park Service has prepared a Draft Environmental Impact Statement for the proposed general management plan for Ebey's Landing National Historical Reserve (Reserve) located in northwestern Washington. In addition to a “no-action” alternative (which would maintain current management), the Draft EIS describes and analyzes two “action” alternatives which respond to public concerns and issues identified during the scoping process, as well as NPS's conservation planning requirements. These alternatives present varying management strategies that address visitor use and preservation of cultural and natural resources that protect and reflect the rural community on Whidbey Island from 19th century exploration and settlement in Puget Sound to the present time. The potential environmental consequences of each alternative, and mitigation strategies, are identified and analyzed; a determination as to the “environmentally preferred” alternative is also provided in the Draft EIS.

Scoping: A Notice of Intent announcing preparation of the Draft EIS and general management plan was published in the Federal Register on May 22, 2000. Public involvement has included public meetings, presentations and meetings with organizations located within the Reserve and additional organizations, newsletter mailings, local press releases, website postings, and postcards. Preceding the formal EIS analysis process, the NPS had organized an interdisciplinary planning team to initiate the general management plan process for the Reserve. The team included the Reserve's Trust Board and staff, representatives from Washington State, Island County and Town of Coupeville, and NPS staff from the Pacific West Region Office in Seattle, Washington. The purpose of these initial meetings was to help characterize the scale and extent of the planning process.

The formal public scoping efforts began in June 2000 with release of a scoping newsletter to approximately 650 people on the Reserve's mailing list. In addition, over 2800 newsletters were distributed at local public places such as libraries, civic buildings, businesses, and parks. The planning team received 36 letters during the official public scoping period ending August 15, 2000. In addition, during June 2000, three public scoping meetings were held in Seattle, Washington and Coupeville, Washington (in total, 141 verbal comments were recorded). Individual scoping meetings were also held between August 2000 and January 2001 with organizations located within the Reserve to discuss issues of mutual interest. Other meetings with other interested organizations were also scheduled.

Proposed Plan and Alternatives: Alternative A constitutes the No-Action alternative and serves as an environmental baseline to facilitate comparisons between the “action” alternatives. Alternative A assumes that existing programs, facilities, staffing, and funding would generally continue at their current levels. The NPS would dispose of NPS-owned and managed farms within the Reserve to the private sector after placing conservation easements on them.

Alternative B is the “agency preferred” alternative. The Reserve's Trust Board, and the NPS, in cooperation with partners, would enhance existing programs and resources management, as well as administrative, maintenance, and visitor services within the Reserve. To maintain and protect the rural landscape, the NPS would continue to purchase conservation easements on priority properties based upon a new land protection plan. The NPS would exchange NPS-owned farms to private farm owners for additional protection on other properties within the Reserve. Historic buildings would be rehabilitated to the Secretary of the Interior's Standards. The county would be encouraged to develop a zoning overlay for the Reserve to aid in land use control. In addition, a minor boundary adjustment would be recommended. To orient and inform visitors about the Reserve, three gateway kiosks would be developed along State Route 20 and a visitor center/contact station would be operated within an historic building in Coupeville or within the historic district (three development concept plans for three sites are included). As documented in the Draft EIS this alternative is deemed to be “environmentally preferred”.

Alternative C changes the management structure of the Reserve from a Trust Board of volunteers to a paid Commission structure. Many actions are similar to Alternative B but with some distinctions. Approximately five acres of NPS-owned land at Farm II would be retained for administrative and maintenance use before exchanging the remaining farmland to a private farm owner for additional protection on other properties within the Reserve. One of the three gateways would be in a historic building in the north of the Reserve. The Reserve would partner for a visitor contact facility at a proposed marine science center.

Public Review and Comment: The Draft GMP/EIS has now been released for public review, and a limited number of printed copies are available upon request (see below). In addition, the document may be reviewed at the public library in Coupeville. Also a Draft General Management Plan Alternatives Newsletter is being issued concurrently. Written comments may be submitted using several methods. Responses are encouraged online using the electronic comment form accessed at the NPS Planning, Environment and Public Comment System (http://parkplanning.nps.gov/ebla). A postage-paid comment response form is included in the Alternatives Newsletter (additional pages may be attached to this form as necessary). Written comments may be directly mailed to: Rob Harbour, Reserve Manager, Ebey's Landing National Historical Reserve, P.O. Box 774, 162 Cemetery Road, Coupeville, WA 98239. In addition, oral comments may be offered at one of several public workshops to be conducted in fall, 2005. Confirmed details on dates, locations and times for these workshops will be announced in local newspapers, in the Alternatives Newsletter, via the park's website, or may be obtained by telephone at (360) 678-6084.

All written comments must be postmarked or transmitted not later than 60 days after the EPA's notice of filing is published in the Federal Register (immediately upon confirmation of this date it will be announced on the park's website). All comments will become part of the public record. If individuals submitting comments request that their name or address be withheld from public disclosure, the request will be honored to the extent allowable by law. Such requests must be stated prominently in the beginning of comments. There also may be circumstances in which the NPS will withhold from the record a respondent's identity, as allowable by law. As always: The NPS will make available to public inspection all submissions from organizations or businesses, and from individuals identifying themselves as representatives or officials of organizations or businesses; and anonymous comments may not be considered.

Decision: Following the opportunity to review the Draft EIS/GMP, all public and agency comments received will be carefully considered in preparing the final document. The Final EIS is anticipated to be completed during the Fall/Winter 2006 and its availability will be similarly announced in the Federal Register and via local and regional press media. As a delegated EIS, the official responsible for the final decision is the Regional Director, Pacific West Region; subsequently the approved plan would be implemented by the Trust Board, Ebey's Landing National Historical Reserve, in conjunction with the Reserve Manager.

Dated: May 26, 2005.
Jonathan B. Jarvis,
Regional Director, Pacific West Region.

[FR Doc. 05-17483 Filed 9-1-05; 8:45 am]

BILLING CODE 4312-6W-P